DEPARTMENT OF THE INTERIOR

Fish and Wildlife Service

[FWS-R4-ES-2010-N166; 40120-1112-0000-F2]

Environmental Impact Statement; Alabama Beach Mouse Draft General Conservation Plan; Fort Morgan Peninsula, Baldwin County, AL

AGENCY: Fish and Wildlife Service, Interior.

ACTION: Notice of intent; announcement of public meetings.

SUMMARY: Under the National Environmental Policy Act (NEPA), we, the Fish and Wildlife Service (Service), advise the public that we intend to gather information necessary to prepare an environmental impact statement (EIS) on the draft Alabama Beach Mouse General Conservation Plan (ABM GCP) Project. We are preparing the ABM GCP under the Endangered Species Act of 1973, as amended (Act). We provide this notice to (1) Describe the proposed action and possible alternatives; (2) advise other Federal and State agencies, affected Tribes, and the public of our intent to prepare an EIS; (3) announce the initiation of a public scoping period; and (4) obtain suggestions and information on the scope of issues to be included in the EIS.

DATES: Comments: We must receive any written comments at our Field Office (see ADDRESSES) on or before September 27, 2010.

Public Meetings: Two public scoping meetings will be held on September 29, 2010: The first from 2 p.m. to 4 p.m., and the second from 6 p.m. to 8 p.m.

ADDRESSES: Public Meetings: Gulf Shores Adult Activities Center, 260 Club House Drive, Gulf Shores, AL 36542.

Document Availability: Documents will be available for public inspection by appointment during normal business hours at the Fish and Wildlife Service Field Office, 1208-B Main Street, Daphne, AL 36526.

Comments: For how and where to submit comments, see Public Comments below.

FOR FURTHER INFORMATION CONTACT: Mr. Darren LeBlanc, Project Manager, at the Alabama Field Office (see ADDRESSES), telephone: 251/441-5868.

SUPPLEMENTARY INFORMATION: Under the National Environmental Policy Act (NEPA; 42 U.S.C. 4321 et seq.), we announce that we intend to gather information necessary to prepare an EIS on the draft ABM GCP Project under the Act (16 U.S.C. 1531 et seq.).

Background

Section 9 of the Act and Federal regulations prohibit the “take” of wildlife species listed as endangered or threatened (16 U.S.C. 1538). The Act defines the term “take” as to harass, harm, pursue, hunt, shoot, wound, kill, trap, capture, or collect listed species, or to attempt to engage in such conduct (16 U.S.C. 1532). Harm includes significant habitat modification or degradation that actually kills or injures listed wildlife by significantly impairing essential behavioral patterns, including breeding, feeding, and sheltering [50 CFR 17.3(c)]. Under section 10(a)(1)(B) of the Act, the Service may issue permits to authorize “incidental take” of listed species. “Incidental Take” is defined by the Act as take that is incidental to, and not the purpose of, carrying out an otherwise lawful activity. Regulations governing permits for threatened species and endangered species, respectively, are in the Code of Federal Regulations (CFR) at 50 CFR 17.32 and 50 CFR 17.22. All species included on an incidental take permit would receive assurances under the Service's “No Surprises” regulations [50 CFR 17.22(b)(5) and 17.32(b)(5)].

Proposed ABM GCP

Species we propose for coverage in the ABM GCP are species that are currently listed as federally threatened or endangered and have some likelihood to occur within the project area. Three protected species covered by the ABM GCP are known to occur within the area. Currently the following listed animal species are included in the plan: Alabama beach mouse (ABM) (Peromyscus polionotus ammobates), Loggerhead sea turtle (Caretta caretta), and Kemp's ridley sea turtle (Lepidochelys kempii).

The proposed ABM GCP utilizes a conservation strategy that would provide for preservation of a large portion of the developable habitat for the ABM while still allowing economic growth to occur in the area. The ABM GCP coverage area extends along the Gulf of Mexico for about 17 miles, encompassing approximately 2,400 acres of open beach and associated nearshore coastal dune environments on the Fort Morgan Peninsula, Baldwin County, AL. The coverage area begins at Little Lagoon Pass, on State Hwy 182 in Gulf Shores, and extends westward to the tip of the Fort Morgan State Historic site at the western terminus of the Fort Morgan Peninsula. The area is defined biologically as that area where an ABM population and/or subpopulations (i.e., metapopulations) could be affected by the proposed actions. The coverage area is based on what the Service currently knows about ABM movement and dispersal, locations of separate yet connected populations, and where future development could occur within these areas. It is important that suitable habitat be maintained within these areas so that barriers to dispersal do not develop, to allow for expansion of subpopulations, and for maintaining or increasing genetic diversity.

The ABM GCP would result in take authorization for otherwise lawful actions, such as private development that may incidentally take or harm animal species or their habitats within the ABM GCP area, in exchange for the assembly and management of a coordinated ABM GCP area. Specifically, these activities would include residential development and infrastructure improvement, as well as response activities related to impacts from tropical weather systems. The ABM GCP would develop a program of take avoidance, minimization, and mitigation, with an emphasis on preservation of remaining natural lands that will support viable populations and the continued existence of federally listed threatened or endangered species, including an in-lieu-fee proposal. The ABM GCP creates a framework for complying with federally listed threatened or endangered species regulations for specified species while accommodating future growth in the ABM GCP area. The framework established by the ABM GCP in-lieu-fee plan will allow for the purchase of select parcels of high-priority habitat, preserve movement corridors within viable habitat, conduct post-storm habitat restoration on public lands and assist the public with the same on private property, and assist in the conservation of species through research.

If the ABM GCP is established, property owners who wish to develop low-density residences on the Fort Morgan peninsula in Alabama, and who meet the qualifying conditions of the ABM GCP, may apply for a 50-year Incidental Take Permit (ITP) from the Service. The ITP is needed to authorize the incidental take of threatened and endangered species that would occur as a result of private residential development.

Environmental Impact Statement

The EIS will consider three alternatives: The proposed action (establishment of the GCP), no action (no project/no section 10 permit), and continuing to process HCPs in yearly batches of applications, as we do currently. A detailed description of the proposed action and alternatives in the ABM GCP will be included in the EIS. The EIS will also identify potentially significant impacts on biological resources, land use, air quality, water quality, water resources, economics, and other environmental resource issues that could occur directly or indirectly with implementation of the proposed action and alternatives. Different strategies for avoiding, minimizing, and mitigating the impacts of incidental take may also be considered.

The primary purpose of the scoping process is to identify important issues raised by the public related to the proposed action.

Public Comments

Outside of the public hearings, we will accept comments in written form only. To ensure that we identify the full range of issues related to the permit application, we invite written comments from interested parties. Please reference the ABM GCP in such comments.

If you wish to comment, you may submit comments by any one of the following methods:

U.S. mail: Alabama Field Office (see ADDRESSES).

E-mail: darren_leblanc@fws.gov. Please include your name and return mailing address in your e-mail message. If you do not receive a confirmation from us that we have received your email, contact us directly at either telephone number listed (see FOR FURTHER INFORMATION CONTACT).

Hand delivery: Hand-deliver comments to either of our offices listed under ADDRESSES.

Availability of Public Comments

Before including your address, phone number, e-mail address, or other personal identifying information in your comment, you should be aware that your entire comment—including your personal identifying information—may be made publicly available at any time. While you can ask us in your comment to withhold your personal identifying information from public review, we cannot guarantee that we will be able to do so.

Reasonable Accommodation

Persons needing reasonable accommodations in order to attend and participate in the public meeting should contact Denise Rowell at 251/441-5181 as soon as possible. In order to allow sufficient time to process requests, please call no later than 1 week before the public meeting. Information regarding this proposed action is available in alternative formats upon request.

Authority: We provide this notice under section 10 of the Act (16 U.S.C. 1531 et seq.) and NEPA regulations (40 CFR 1506.6).

Dated: August 2, 2010.
Mark J. Musaus,
Acting Regional Director, Southeast Region.

[FR Doc. 2010-21268 Filed 8-25-10; 8:45 am]

BILLING CODE 4310-55-P